FEDERAL MARITIME COMMISSION

[Docket No. 21-09]

Hapag-Lloyd, A.G. and Hapag-Lloyd (America) LLC.—Possible Violations; Order of Investigation and Hearing

AGENCY: Federal Maritime Commission.

DATES: The Order of Investigation and Hearing was served November 10, 2021.

ACTION: Notice of order of investigation and hearing.

SUPPLEMENTARY INFORMATION: On November 10, 2021, the Federal Maritime Commission instituted an Order of Investigation and Hearing entitled Hapag-Lloyd, A.G. and Hapag-Lloyd (America) LLC Possible Violations of 46 U.S.C. 41102(c). Acting pursuant to Section 41302 of Title 46 of the United States Code, that investigation is instituted to determine:

(1) Whether Hapag-Lloyd, A.G. and Hapag-Lloyd (America) LLC. are violating or have violated section 41102(c) of the Shipping Act by failing to establish, observe, and enforce just and reasonable regulations and practices relating to its assessment of charges on containers when return locations with corresponding appointments were unavailable.

The Order may be viewed in its entirety at http://www.fmc.gov/21-09.

Authority: 46 U.S.C. 41302.

Rachel Dickon,
Secretary.

[FR Doc. 2021-25098 Filed 11-16-21; 8:45 am]

BILLING CODE 6730-02-P